DEPARTMENT OF COMMERCE

International Trade Administration

[A-570-822]

Certain Helical Spring Lock Washers from the People's Republic of China; Final Results of Antidumping Duty Administrative Review and Determination Not to Revoke the Antidumping Duty Order, in Part

AGENCY: Import Administration, International Trade Administration, Department of Commerce.

ACTION: Notice of Final Results of Antidumping Duty Administrative Review and Determination Not to Revoke, in Part.

SUMMARY: On November 7, 2003, the Department published in the Federal Register the preliminary results of the administrative review of the antidumping duty order on certain helical spring lock washers from the People's Republic of China. We gave interested parties an opportunity to comment on the preliminary results. Based upon our analysis of the comments and information received, we have made changes to the dumping margin calculations for the final results. We find that certain helical spring lock washers from the People's Republic of China were being sold in the United States below normal value by Hangzhou Spring Washer Co., Ltd. during the period October 1, 2001 through September 30, 2002. We have also determined not to revoke the antidumping duty order on the subject merchandise with respect to this company.

EFFECTIVE DATE: March 15, 2004.

FOR FURTHER INFORMATION CONTACT: Ryan Langan, Import Administration, International Trade Administration, U.S. Department of Commerce, 14th Street and Constitution Avenue, N.W., Washington, D.C. 20230; telephone (202) 482-2613.

SUPPLEMENTARY INFORMATION:

Background

On November 7, 2003, the Department published in the Federal Register the preliminary results of its administrative review of certain helical spring lock washers (“HSLWs”) from the People's Republic of China (“PRC”) and its preliminary determination not to revoke the antidumping duty order, in part (Certain Helical Spring Lock Washers from the People's Republic of China; Preliminary Results of Antidumping Duty Administrative Review, 68 FR 63060 (November 7, 2003) (“Preliminary Results”). We received surrogate value information from the sole respondent, Hangzhou Spring Washer Co., Ltd. (“Hangzhou”), on December 16, 2003. On January 5, 2004, the petitioner, Shakeproof Assembly Components Division of Illinois Tool Works, Inc. (“Shakeproof”), and Hangzhou submitted case briefs. On January 12, 2004, the petitioner and Hangzhou submitted rebuttal briefs.

The Department has completed the antidumping duty administrative review in accordance with section 751 of the Act.

Scope of the Order

The products covered by the order are HSLWs of carbon steel, of carbon alloy steel, or of stainless steel, heat-treated or non-heat-treated, plated or non-plated, with ends that are off-line. HSLWs are designed to: (1) function as a spring to compensate for developed looseness between the component parts of a fastened assembly; (2) distribute the load over a larger area for screws or bolts; and, (3) provide a hardened bearing surface. The scope does not include internal or external tooth washers, nor does it include spring lock washers made of other metals, such as copper.

HSLWs subject to the order are currently classifiable under subheading 7318.21.0030 of the Harmonized Tariff Schedule of the United States (“HTSUS”). Although the HTSUS subheading is provided for convenience and customs purposes, the written description of the scope of this proceeding is dispositive.

Period of Review

The period of review (“POR”) is October 1, 2001, through September 30, 2002. This is the ninth administrative review of the order.

Price Comparisons

We calculated export price and normal value based on the same methodology used in the Preliminary Results with the following exceptions: For the steel wire rod and steel scrap surrogate values, we included the Indian import statistics for France. For selling, general and administrative (“SG&A”) expenses, the total cost of production (“TCOP”), and total labor, we corrected programming errors. The corrected margin program deducts steel scrap revenue from SG&A expenses and TCOP, and we have excluded plating labor from the total labor calculation. Pursuant to section 351.408(c)(3) of the Department's regulations, we valued labor using the regression-based wage rate for the PRC published by Import Administration on its website. The Department updated the wage rate for the PRC after the Preliminary Results and, therefore, we are using the revised wage rate of $0.90/hour to value labor. See the “Final Results Calculation Memorandum for Hangzhou Spring Washer Co., Ltd.,” dated March 8, 2004, for further discussion.

Revocation

Pursuant to 19 CFR 351.222(e)(1), Hangzhou requested revocation of the antidumping duty order as it pertains to that company. Based on our analysis of the sales and factors of production information submitted by Hangzhou, we find that Hangzhou sold the subject merchandise in the United States below normal value during the POR. Thus, we do not find that Hangzhou has not sold the subject merchandise below NV for a period of at least three consecutive years. Therefore, pursuant to 19 CFR 351.222(b)(1), we find that Hangzhou does not qualify for revocation of the order on HSLWs from the PRC and that the order, with respect to Hangzhou, should not be revoked.

Analysis of Comments Received

All issues raised in the case and rebuttal briefs by parties to this review are addressed in the “Issues and Decision Memorandum” from Jeffrey May, Deputy Assistant Secretary, Import Administration, to James J. Jochum, Assistant Secretary, Import Administration, dated March 8, 2004 (“Decision Memorandum”), which is hereby adopted by this notice. Attached to this notice as an Appendix is a list of the issues that parties have raised and to which we have responded in the Decision Memorandum. Parties can find a complete discussion of all issues raised in this review and the corresponding recommendations in this public memorandum, which is on file in the Department's Central Records Unit, located in Room B-099 of the main Department building (“CRU”). In addition, a complete version of the Decision Memorandum can be accessed directly on the Internet at http://ia.ita.doc.gov/frn/ under the heading “China PRC.” The paper copy and electronic version of the Decision Memorandum are identical in content.

Final Results of Review

The weighted-average dumping margin for the POR is as follows:

Manufacturer/exporter | Time Period | Margin (percent)
Hangzhou Spring Washer Co., Ltd. | 10/01/2001-09/30/2002 | 28.59

Assessment Rates

In accordance with 19 CFR 351.212(b)(1), we have calculated importer (or customer)-specific assessment rates for the merchandise subject to this review. To determine whether the duty assessment rates were de minimis, in accordance with the requirement set forth in 19 CFR 351.106(c), we calculated importer (or customer)-specific ad valorem rates by aggregating the dumping margins calculated for all U.S. sales to that importer (or customer) and dividing this amount by the total entered value of the sales to that importer (or customer). Where an importer (or customer)-specific ad valorem rate was greater than de minimis, we will direct the U.S. Customs and Border Protection (“CBP”) to apply the ad valorem assessment rates against the entered value of each of the importer's/customer's entries during the review period. Where an importer (or customer )-specific ad valorem rate was de minimis, we will order the Customs Service to liquidate without regard to antidumping duties.

All other entries of the subject merchandise during the POR will be liquidated at the antidumping duty rate in place at the time of entry.

The Department will issue appropriate assessment instructions directly to CBP within 15 days of publication of these final results of review.

Cash Deposit Requirements

The following cash deposit rates will be effective upon publication of these final results for all shipments of HSLWs from the PRC entered, or withdrawn from warehouse, for consumption on or after the publication date of this notice, as provided for by section 751(a)(1) of the Act: (1) the cash deposit rates for the reviewed company will be the rate shown above; (2) for a company previously found to be entitled to a separate rate and for which no review was requested, the cash deposit rate will be the rate established in the most recent review of that company; (3) for all other PRC exporters of subject merchandise, the rate will be the PRC country-wide rate of 128.63 percent, which is the “All Other PRC Manufacturers, Producers and Exporters rate from the Final Determination of Sales at Less Than Fair Value: Certain Helical Spring Lock Washers from the PRC, 58 FR 48833 (September 20, 1993); and (4) for non-PRC exporters of subject merchandise from the PRC, the cash deposit rate will be the rate applicable to the PRC exporter that supplied that exporter. These deposit rates shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these results and notice in accordance with sections section 751(a) and 777(i) of the Act.

Dated: March 8, 2004.
James J. Jochum,
Assistant Secretary for Import Administration.

Appendix

List of Issues in the Decision Memorandum

Comment 1. Rejection of Market Economy Steel Wire Rod Prices

Comment 2. Valuation of Steel Wire Rod

Comment 3. By-Product Offset

Comment 4. Valuation of Plating

Comment 5. Valuation of Hydrochloric Acid

Comment 6. Valuation of Overhead, SG&A and Profit

Comment 7. Use of Adverse Facts Available

Comment 8. Revocation of the Antidumping Duty Order

[FR Doc. 04-5800 Filed 3-12-04; 8:45 am]

BILLING CODE 3510-DS-S